DEPARTMENT OF HEALTH AND HUMAN SERVICES

Centers for Disease Control and Prevention

Advisory Council for the Elimination of Tuberculosis Meeting (ACET)

AGENCY: Centers for Disease Control and Prevention (CDC), Department of Health and Human Services (HHS).

ACTION: Notice of meeting.

SUMMARY: In accordance with the Federal Advisory Committee Act, the CDC announces the following meeting of the Advisory Council for the Elimination of Tuberculosis Meeting (ACET). This meeting is open to the public, limited only by 100 room seating and 100 ports for audio phone lines. Time will be available for public comment. The public is welcome to submit written comments in advance of the meeting. Comments should be submitted in writing by email to the contact person listed below. The deadline for receipt is Monday, April 9, 2018. Persons who desire to make an oral statement, may request it at the time of the public comment period on April 17, 2018 at 3:20 p.m. EDT. This meeting is accessible by web conference: 1-877-927-1433 and participant passcode: 12016435 and https://adobeconnect.cdc.gov/r5p8l2tytpq/.

DATES: The meeting will be held on April 17, 2018, 8:30 a.m. to 3:30 p.m., EDT.

ADDRESSES: 8 Corporate Blvd., Building 8, Conference Rooms 1A and 1B, Atlanta, Georgia, 30329 and web conference.

FOR FURTHER INFORMATION CONTACT: Margie Scott-Cseh, Committee Management Specialist, CDC, 1600 Clifton Road NE, Mailstop: E-07, Atlanta, Georgia, 30329, telephone (404) 639-8317; zkr7@cdc.gov.

SUPPLEMENTARY INFORMATION:

Purpose: This Council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters to be Considered: The agenda will include: (1) Update on Report of Verified Case of Tuberculosis (RVCT) revision; (2) Overview of Division of Global Migration and Quarantine (DGMQ) TB Technical Instructions; (3) Update on healthcare workers screening guidelines; and (4) Updates from ACET workgroups. Agenda items are subject to change as priorities dictate.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2018-04477 Filed 3-5-18; 8:45 am]

BILLING CODE 4163-18-P